DEPARTMENT OF ENERGY

Federal Energy Regulatory Commission

[Docket No. EG05-51-000, et al.]

SeaWest Asset Management Services, LLC, et al.; Electric Rate and Corporate Filings

March 7, 2005.

The following filings have been made with the Commission. The filings are listed in ascending order within each docket classification.

1. SeaWest Asset Management Services, LLC

[Docket No. EG05-51-000]

Take notice that on March 4, 2005, SeaWest Asset Management Services, LLC (SeaWest Asset Management) filed with the Commission an application for determination of exempt wholesale generator status pursuant to Part 365 of the Commission's regulations.

SeaWest Asset Management states that it will be engaged directly and exclusively in the business of operating certain eligible facilities and selling electric energy exclusively at wholesale within the meaning of section 32 of PUHCA. SeaWest Asset Management requests that the Commission determine that it is an EWG as it is currently owned and after consummation of the sale of 100 percent of the capital stock of its parent, SeaWest Holdings, Inc., to a wholly-owned subsidiary of the AES Corporation, AES Western Wind, LLC.

SeaWest Asset Management states that a copy of the application has been served on the U.S. Secruities and Exchange Commission, the California Public Utilities Commission, and the Indiana Utility Regulatory Commission.

Comment Date: 5 p.m. eastern time on March 25, 2005.

2. Florida Power & Light Company, FPL Energy Maine Hydro LLC, FPL Energy Wyman, LLC, FPL Energy Wyman IV, LLC, FPL Energy Power Marketing, Inc., Doswell Limited Partnership, FPL Energy Cape, LLC, FPL Energy Vansycle, L.L.C., ER01-838-004, Badger Windpower, LLC, Gray County Wind Energy, LLC, Calhoun Power Company I, LLC, FPL Energy Hancock County Wind, LLC, and Jamaica Bay Peaking Facility, LLC

[Docket Nos. ER97-3359-007, ER98-3511-008, ER98-3563-008, ER98-3564-008, ER98-3566-011, ER00-2391-004, ER00-3068-004, ER01-1071-004, ER01-1972-004, ER01-2074-004, ER03-34-003, and ER03-623-004]

Take notice that on February 28, 2005, each of the above-referenced companies submitted revised tariff sheets in compliance with the Commission Orders in Investigation of Terms and Conditions of Public Utility Market-Based Rate Authorizations, 105 FERC ¶ 61,277 (2003) and Reporting Requirement for Changes in Status for Public Utilities with Market-Based Rate Authority, 110 FERC ¶ 61,097 (2005). In addition, Doswell Limited Partnership and Jamaica Bay Peaking Facility, LLC submitted revised tariff sheets to comply with Order No. 614, Designation of Electric Rate Schedule Sheets, [1996-2000 Reg. Preambles] FERC Stat. & Regs. ¶ 31,096 (2000).

Comment Date: 5 p.m. eastern time on March 18, 2005.

3. Madison Gas and Electric Company

[Docket No. ER00-586-005]

Take notice that on March 3, 2005, Madison Gas and Electric Company (MEG) submitted for filing its response to Commission staff's February 15, 2005 request for additional information regarding MGE's updated market power analysis filed on November 9, 2004 in Docket No. ER00-586-003, as amended November 15, 2004 in Docket No. ER00-586-004.

Comment Date: 5 p.m. eastern time on March 14, 2005.

4. Devon Power LLC

[Docket No. ER03-563-049]

Take notice that on February 28, 2005, ISO New England Inc. (ISO-NE) submitted a report updating progress made in siting, permitting and construction of transmission and generation upgrades within the New England control area, in compliance with the Commission's order issued June 2, 2004, Devon Power LLC, et al., 107 FERC ¶ 61,240.

Comment Date: 5 p.m. eastern time on March 21, 2005.

5. Wisconsin River Power Company

[Docket No. ER05-453-001]

Take notice that Wisconsin River Power Company, on March 2, 2005, tendered for filing a supplement to the market-based rate application and revised rate schedules in preparation for MISO Day-2 Market Operations filed on January 14, 2005 in Docket No. ER05-543-000.

Wisconsin River Power Company states that copies of the filing were served upon the official service list in this proceeding, PJM, MISO, the Michigan Public Service Commission and the Public Service Commission of Wisconsin.

Comment Date: 5 p.m. eastern time on March 14, 2005.

6. Cleco Power LLC

[Docket No. ER05-473-001]

Take notice that on February 28, 2005, Cleco Power LLC (Cleco Power) filed an erratum to its January 19, 2005 Order No. 2003-B compliance filing in Docket No. ER05-473-000.

Comment Date: 5 p.m. eastern time on March 21, 2005.

7. Duke Energy Washington, LLC

[Docket No. ER05-623-001]

Take notice that on February 28, 2005, Duke Energy Washington, LLC (Duke Washington) submitted an errata to its February 18, 2005 filing in Docket No. ER05-623-000 of its proposed tariff for reactive supply and voltage control from generation sources service.

Comment Date: 5 p.m. eastern time on March 21, 2005.

8. Harvard Dedicated Energy Limited

[Docket No. ER05-658-000]

Take notice that on February 28, 2005, Harvard Dedicated Energy Limited (HDEL) filed an application for acceptance of HDEL Rate Schedule FERC No. 1, the granting of certain blanket approvals, including the authority to sell electricity at market-based rates, and the waiver of certain Commission Regulations.

Comment Date: 5 p.m. eastern time on March 21, 2005.

9. Mid-Continent Area Power Pool

[Docket No. ER05-659-000]

Take notice that on February 28, 2005, Mid-Continent Area Power Pool (MAPP) filed a revised Restated Agreement reflecting the changed functions of MAPP. MAPP requested an effective date of March 1, 2005.

Comment Date: 5 p.m. eastern time on March 21, 2005.

10. Mill Run Windpower LLC

[Docket Nos. ER05-660-000 and ER01-1710-004]

Take notice that on February 28, 2005, Mill Run Windpower LLC (Mill Run) filed revisions to its market-based rate tariff and code of conduct. Mill Run states that the revisions make the tariff compliant with Order No. 652, Reporting Requirements for Changes in Status for Public Utilities With Market-Based Rate Authority, 110 FERC ¶ 61,097 (2005). Mill Run requests an effective date of April 25, 2003 for the code of conduct and March 21, 2005 for the Order No. 652 compliance filing.

Mill Run states that copies of the filing were served on the official service list for Docket No. ER01-1710 and on the Florida Public Service Commission.

Comment Date: 5 p.m. eastern time on March 21, 2005.

11. Somerset Windpower LLC

[Docket Nos. ER05-661-000 and ER01-2139-005]

Take notice that on February 28, 2005, Somerset Windpower LLC (Somerset) filed revisions to its market-based rate tariff and code of conduct. Somerset states that the revisions make the tariff compliant with Order No. 652, Reporting Requirements for Changes in Status for Public Utilities With Market-Based Rate Authority, 110 FERC ¶ 61,097 (2005). Somerset requests an effective date of April 25, 2003 for the code of conduct and March 21, 2005 for the Order No. 652 compliance filing.

Somerset states that copies of the filing were served on the official service list for Docket No. ER01-2139 and on the Florida Public Service Commission.

Comment Date: 5 p.m. eastern time on March 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1094 Filed 3-14-05; 8:45 am]

BILLING CODE 6717-01-P